DEPARTMENT OF STATE

[Public Notice 6094]

Evaluation of the Intergovernmental Panel on Climate Change

ACTION: Request for public comment.

SUMMARY: The U.S. State Department, in its role as coordinator for the U.S. Government's role in the IPCC, requests public comment on the activities and process of the Intergovernmental Panel on Climate Change (IPCC) in order to facilitate the U.S. Government's effort to assess and enhance the IPCC's high-level of scientific credibility and relevance for the evolving needs of decision-maker.

The IPCC is a scientific intergovernmental body set up by the World Meteorological Organization (WMO) and the United Nations Environment Program (UNEP). The IPCC's role is to assess on a comprehensive, objective, open, and transparent basis the latest scientific, technical, and socio-economic literature produced worldwide. Consistent with this role, the IPCC does not conduct research, nor does it monitor climate related data or parameters.

In order to fulfill this role, the IPCC produces comprehensive assessment reports at regular intervals of the state of knowledge with respect to climate change science; impacts, vulnerability and adaptation; and mitigation. The most recent of these, the Fourth Assessment Report, was completed in November 2007. The First Assessment Report was completed in 1990, the Second Assessment Report in 1995, and the Third Assessment Report in 2001. These reports have been widely used as key references for the state of knowledge on climate change, including in international climate discussions under the United Nations Framework Convention on Climate Change (UNFCCC). The IPCC also issues periodic Special Reports on specific aspects of climate change. The most recent of these, on Carbon Dioxide Capture and Storage, was released in 2005. The United States has played a leading role in the IPCC since its inception, through official contributions and key leadership positions in IPCC report development, as well as through the contributions of many U.S. scientist and experts to the reports themselves.

All IPCC reports are developed in a manner that conforms to the IPCC Principles and Procedures, which were developed by participating governments of the IPCC. Consistent with these principles and procedures, IPCC reports should be neutral with respect to policy, although they need to deal objectively with policy relevant scientific, technical, and socio-economic factors.

Efforts are currently underway within the IPCC to initiate a dialogue regarding the scope and nature of IPCC activities in the coming years. In order to inform these discussions, the State Department is requesting public comment regarding aspects of the IPCC products and the processes used to develop them.

Comments of particular value might focus on:

—The value of comprehensive assessments vs. special reports;

—The structure, frequency and process for developing IPCC reports;

—Substantive areas that need stronger coverage and, if so, why;

—Relationship of the reports to the needs of decision-makers.

The public is also welcome to submit comment on other aspects of the IPCC as it sees fit. Further information about the activities of the IPCC, as well as IPCC reports can be found at http://www.ipcc.ch.

DATES: Comments must be received on or before February 29, 2008.

ADDRESSES: Send comments via e-mail to IPCC-future@climatescience.gov by the prescribed deadline. Append surname to title and to the attached word-processing file to facilitate processing and archival (e.g., “IPCC Future: Smith” and IPCC-Smith.doc), and include contact details (name, institution, physical address, phone, and e-mail).

All public comments will be made available on the U.S. Climate Change Science Program (CCSP) Web site at http://www.climatescience.gov/Library/ipcc/ipcc-future.htm as submitted, unless modified for technical reasons. Accordingly, comments will not be edited to remove any identifying or contact information.

FOR FURTHER INFORMATION CONTACT: Trigg Talley, U.S. Department of State, Office of Global Change, at (202)647-3984.

SUPPLEMENTARY INFORMATION: IPCC assessments and special reports and other information about IPCC activities are available at http://www.ipcc.ch.

Dated: February 5, 2008.
Donna L. Lee,
Foreign Affairs Officer, Department of State.

[FR Doc. E8-2360 Filed 2-7-08; 8:45 am]

BILLING CODE 4710-09-P